DEPARTMENT OF ENERGY

Federal Energy Regulatory Commission

[Docket No. RP98-42-019]

ANR Pipeline Company; Notice of Refund Report

October 12, 2000.

Take notice that on May 18, 2000, ANR Pipeline Company (ANR) tendered for filing its refund report in the above-referenced docket pursuant to the Commission's Order Denying Petitions for Adjustment and Establishing Procedures for the Payment of Refunds, issued September 10, 1997, in Docket No. RP97-369-000; et al. (September 10, 1997 Order).

ANR states that the refund report shows the principal and interest amount that producers have paid ANR, as well as the amounts owned by producers, related to Kansas ad valorem tax overpayments. In addition, ANR has provided the current, of last known, mailing address of each First Seller that has not paid its refund in full. As to the flowthrough of refunds to ANR's customers, pursuant to Commission order dated October 1, 1998, the Commission, based on a previous Commission-approved settlement agreement, granted ANR's request for a waiver of the refund flowthrough requirement and the related requirement that ANR report refund flowthroughs. As a result of this order no amounts have been flowed through to customers.

ANR states that copies of its filing have been provided to all parties.

Any person desiring to protest said filing should file a protest with the Federal Energy Regulatory Commission, 888 First Street, NE, Washington, DC 20426, in accordance with Section 385.211 of the Commission's Rules and Regulations. All such protests must be filed on or before October 23, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-26698 Filed 10-17-00; 8:45 am]

BILLING CODE 6717-01-M